Title 3—

The President

Proclamation 8088 of December 1, 2006

National Drunk and Drugged Driving Prevention Month, 2006

By the President of the United States of America

A Proclamation

Each year, thousands of Americans lose their lives in accidents involving drunk and drugged driving. During National Drunk and Drugged Driving Prevention Month, we continue our efforts to promote awareness of the dangers of impaired driving and encourage fellow citizens to never drive under the influence of alcohol or drugs.

All Americans can play an important role in preventing drunk and drugged driving. Family members can discuss the dangers of impaired driving; businesses, schools, and organizations in our communities can help spread the message of awareness; and individuals can help protect family and friends by identifying a designated driver. During the holiday season, it is especially important to encourage responsible driving and to help ensure the safety of friends and loved ones.

My Administration is committed to saving lives by stopping drunk and drugged drivers before they put themselves and others at risk. We continue to work with communities across our Nation to increase public awareness and prevention of this serious offense. The Department of Transportation's National Highway Traffic Safety Administration has partnered with State and local law enforcement agencies to carry out the campaign, “Drunk Driving. Over the Limit. Under Arrest.” This program aims to keep impaired drivers off our Nation's roads by creating new public education programs and toughening enforcement. The Office of National Drug Control Policy works to warn young drivers and their parents about the dangers of driving under the influence of drugs. My Administration is also supporting community and faith-based programs that encourage others to avoid the devastating consequences of impaired driving.

Every person has a responsibility to drive free of alcohol and drugs and to insist that friends and family do the same. By helping fight drunk and drugged driving, Americans everywhere can save lives and send a strong message that driving under the influence is not acceptable.

NOW, THEREFORE, I, GEORGE W. BUSH, President of the United States of America, by virtue of the authority vested in me by the Constitution and laws of the United States, do hereby proclaim December 2006 as National Drunk and Drugged Driving Prevention Month. I encourage all Americans to make responsible decisions and to help prevent drunk and drugged driving.

IN WITNESS WHEREOF, I have hereunto set my hand this first day of December, in the year of our Lord two thousand six, and of the Independence of the United States of America the two hundred and thirty-first.

[FR Doc. 06-9607

Filed 12-6-06; 8:45 am]

Billing code 3195-01-P